DEPARTMENT OF JUSTICE

Drug Enforcement Administration

Manufacturer of Controlled Substances Notice of Application

Pursuant to § 1301.33(a) of Title 21 of the Code of Federal Regulations (CFR), this is notice that on October 11, 2000, Organix, Inc., 240 Salem Street, Woburn, Massachusetts 01801, made application by renewal of the Drug Enforcement Administration (DEA) for registration as a bulk manufacturer or cocaine (9041), a basis class of controlled substance listed in Schedule II.

The firm plans to manufacture of a derivative of cocaine in gram quantities for validation of synthetic procedures.

Any other such applicant and any person who is presently registered with DEA to manufacture such substances may file comments or objections to the issuance of the proposed registration.

Any such comments or objections may be addressed, in quintuplicate, to the Deputy Assistant Administrator, Office of Diversion Control, Drug Enforcement Administration, United States Department of Justice, Washington, D.C. 20537, Attention, DEA Federal Register Representative (CCR), and must be filed no later than March 12, 2001.

Dated: December 4, 2000.
John H. King,
Deputy Assistant Administrator, Office of Diversion Control, Drug Enforcement Administration.

[FR Doc. 01-751 Filed 1-9-01; 8:45 am]

BILLING CODE 4410-09-M